DEPARTMENT OF TRANSPORTATION

Federal Aviation Administration

14 CFR Part 39

[Docket No. FAA-2013-0365; Directorate Identifier 2012-NM-223-AD; Amendment 39-17704; AD 2013-25-08]

RIN 2120-AA64

Airworthiness Directives; Airbus Airplanes

AGENCY: Federal Aviation Administration (FAA), Department of Transportation (DOT).

ACTION: Final rule.

SUMMARY: We are superseding airworthiness directive (AD) 2009-24-09 for all Airbus Model A330-200 and -300 series airplanes, and Model A340-200 and -300 series airplanes. AD 2009-24-09 required a repetitive inspection program on certain check valves in the hydraulic systems that includes, among other things, inspections for lock wire presence and integrity, traces of seepage or black deposits, proper torque, alignment of the check valve and manifold, installing new lock wire, and corrective actions if needed. This new AD expands the applicability, reduces the compliance time, changes torque values of the check valve tightening, and requires a repetitive inspection program for certain check valves in the hydraulic systems on airplanes that have had a certain modification embodied during production or in-service. This AD was prompted by multiple reports of hydraulic line check valves loosening. We are issuing this AD to detect and correct such check valve loosening, which could result in hydraulic leaks, possibly leading to the loss of all three hydraulic systems and consequent loss of control of the airplane.

DATES: This AD becomes effective January 31, 2014.

The Director of the Federal Register approved the incorporation by reference of certain publications listed in this AD as of January 31, 2014.

The Director of the Federal Register approved the incorporation by reference of certain other publications listed in this AD as of December 14, 2009 (74 FR 62208, November 27, 2009).

ADDRESSES: You may examine the AD docket on the Internet at http://www.regulations.gov/#!docketDetail;D=FAA-2013-0365; or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to the specified products. The NPRM was published in the Federal Register on May 8, 2013 (78 FR 26716), and proposed to supersede AD 2009-24-09, Amendment 39-16068 (74 FR 62208, November 27, 2009). The NPRM proposed to correct an unsafe condition for the specified products. The European Aviation Safety Agency (EASA), which is the Technical Agent for the Member States of the European Community, has issued EASA Airworthiness Directive 2012-0244R1, dated January 25, 2013 (referred to after this as the Mandatory Continuing Airworthiness Information, or “the MCAI”), to correct an unsafe condition for the specified products. The MCAI states:

An A330 operator experienced a yellow hydraulic circuit low level due to a loose check valve, Part Number (P/N) CAR401. During the inspection on the other two hydraulic systems, the other three check valves P/N CAR401 were also found to be loose with their lock wire broken in two instances. Airbus A340 aeroplanes are also equipped with P/N CAR401 high pressure manifold check valves.

Additional cases of P/N CAR401 check valve loosening have been reported on aeroplanes having accumulated more than 1,000 [total] flight cycles (FC). The check valve fitted on the Yellow hydraulic system is more affected, due to additional system cycles induced by cargo door operation.

This condition, if not detected and corrected, could result in hydraulic leaks, possibly leading to the loss of all three hydraulic systems and consequent loss of control of the aeroplane.

To address this unsafe condition, EASA issued Emergency AD 2009-0223-E (http://ad.easa.europa.eu/blob/easa_ad_2009_0223E_superseded.pdf/EAD_2009-0223-E_1) [which corresponds to FAA AD 2009-24-09, Amendment 39-16068 (74 FR 62208, November 27, 2009)] to require an inspection programme to detect any check valve loosening and if necessary, to apply the applicable corrective actions.

EASA AD 2010-0145 (http://ad.easa.europa.eu/blob/easa_ad_2010_0145_Superseded.pdf/AD_2010-0145_1), which superseded EASA EAD 2009-0223-E retaining its requirements, was issued to expand the applicability to the newly certified models A330-223F and A330-243F.

Prompted by further reported in-service events of check valve P/N CAR401 loosening before reaching the threshold of 700 FC, EASA AD 2011-0139 (http://ad.easa.europa.eu/blob/easa_ad_2011_0139_superseded.pdf/AD_2011-0139_1), which superseded EASA AD 2010-0145, retaining its requirements, was issued to:

—Extend the requirement to identify the P/N CAR401 check valves to all aeroplanes, and to

—reduce the inspection threshold for aeroplanes fitted with check valve P/N CAR401, either installed in production through Airbus modification 54491, or installed in service through Airbus Service Bulletin (SB) A330-29-3101 or Airbus SB A340-29-4078.

EASA AD 2012-0070 (http://ad.easa.europa.eu/blob/easa_ad_2012_0070_Correction_superseded.pdf/AD_2012-0070_1), which superseded EASA AD 2011-0139, retaining its requirements, was issued to require an increased torque value of the check valve tightening and High Pressure (HP) manifold re-identification.

Since EASA AD 2012-0070 was issued, additional in-service events have been reported on aeroplanes fitted with check valves on which the increased torque value had been applied. Based on those events, it has been concluded that the action to re-torque the check valves with an increased value is not a satisfactory terminating action for addressing the issue of those check valves.

For the reasons described above, this new [EASA] AD partially retains the requirements of EASA AD 2012-0070, which is superseded. Additionally, for aeroplanes equipped with P/N CAR401 on which the increased torque value has been applied, this new [EASA] AD requires repetitive inspections of the check valves and HP manifolds. Finally, this [EASA] AD also requires application of a lower torque value when a check valve P/N CAR401 is installed on an aeroplane.

This [EASA] AD is considered to be an interim action and further AD action may follow.

Note: the reporting and the torque value increase requirements for check valves P/N CAR401 of EASA AD 2012-0070 are no longer part of this new [EASA] AD.

You may obtain further information by examining the MCAI in the AD docket. You may examine the MCAI in the AD docket on the Internet at http://www.regulations.gov/#!documentDetail;D=FAA-2013-0365-0003.

Comments

We gave the public the opportunity to participate in developing this AD. We considered the comment received.

Request To Change Compliance Time

US Airways requested that we change the compliance time in paragraph (j) of the NPRM (78 FR 26716, May 8, 2013) to 1,000 flight hours after the effective date of the AD, or within 1,000 flight hours after the date of issuance of the original export certificate of airworthiness, whichever occurs later. US Airways stated that this will provide an inspection threshold for new airplane deliveries.

We disagree with changing the compliance time to base it, in part, on the date of issuance of the original export certificate of airworthiness. In developing appropriate compliances time for this final rule, we considered the safety issue as well as the recommendations of the manufacturer, the availability of necessary repair parts, and the practical aspect of accomplishing the required inspection within an interval of time that corresponds to the normal maintenance schedules of most affected operators. In addition, the compliance time of “Within 1,000 flight hours after the effective date of this AD” specified in paragraph (j) of this final rule corresponds with the compliance time given in the MCAI. We have not changed this final rule in this regard.

Change Made to This Final Rule

We reformatted paragraph (n) of this final rule, and removed an unnecessary sentence that appeared at the end of paragraph (n)(2) of the NPRM (78 FR 26716, May 8, 2013).

Conclusion

We reviewed the available data, including the comment received, and determined that air safety and the public interest require adopting this AD with the changes described previously and minor editorial changes:

• Are consistent with the intent that was proposed in the NPRM (78 FR 26716, May 8, 2013) for correcting the unsafe condition; and

• Do not add any additional burden upon the public than was already proposed in the NPRM (78 FR 26716, May 8, 2013).

Costs of Compliance

We estimate that this AD affects 67 airplanes of U.S. registry.

The actions that are required by AD 2009-24-09, Amendment 39-16068 (74 FR 62208, November 27, 2009), and retained in this AD take about 8 work-hours per product, at an average labor rate of $85 per work hour. Based on these figures, the estimated cost of the currently required actions is $680 per product.

We estimate that it will take about 2 work-hours per product to comply with the new requirements of this AD. The average labor rate is $85 per work-hour. Based on these figures, we estimate the cost of this AD on U.S. operators to be $11,390, or $170 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0365; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-24-09, Amendment 39-16068 (74 FR 62208, November 27, 2009), and adding the following new AD:

2013-25-08 Airbus: Amendment 39-17704. Docket No. FAA-2013-0365; Directorate Identifier 2012-NM-223-AD.

(a) Effective Date

This airworthiness directive (AD) becomes effective January 31, 2014.

(b) Affected ADs

This AD supersedes AD 2009-24-09, Amendment 39-16068 (74 FR 62208, November 27, 2009).

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers.

(d) Subject

Air Transport Association (ATA) of America Code 29, Hydraulic power.

(e) Reason

This AD was prompted by multiple reports of hydraulic line check valves loosening. We are issuing this AD to detect and correct such check valve loosening, which could result in hydraulic leaks, possibly leading to the loss of all three hydraulic systems and consequent loss of control of the airplane.

(f) Compliance

You are responsible for having the actions required by this AD performed within the compliance times specified, unless the actions have already been done.

(g) Retained Actions

This paragraph restates the requirements of paragraph (g) of AD 2009-24-09, Amendment 39-16068 (74 FR 62208, November 27, 2009). Except for Model A330-223F and A330-243F airplanes: Do the actions required by paragraphs (g)(1) and (g)(2) of this AD.

(1) For airplanes that do not have Airbus Modification 54491 embodied in production, or Airbus Service Bulletin A330-29-3101 or Airbus Service Bulletin A340-29-4078 embodied in service: Within 100 flight cycles or 28 days after December 14, 2009 (the effective date of AD 2009-24-09, Amendment 39-16068 (74 FR 62208, November 27, 2009)), whichever occurs first, inspect the check valves on the blue, green, and yellow hydraulic systems to identify their part numbers (P/Ns), in accordance with the instructions of Airbus All Operators Telex (AOT) A330-29A3111, Revision 1, dated October 8, 2009 (for Model A330-200 and -300 series airplanes); or AOT A340-29A4086, Revision 1, dated October 8, 2009 (for Model A340-200 and -300 series airplanes). Accomplishment of the inspection required by paragraph (h) of this AD terminates the requirements of this paragraph.

(i) If check valves having P/N CAR401 are installed on all three hydraulic systems, before further flight, do the actions specified in paragraph (g)(2)(i) of this AD. After accomplishing the actions required by paragraph (g)(2)(i) of this AD, do the actions specified in paragraphs (g)(2)(ii) and (g)(2)(iii) of this AD at the applicable compliance times specified in those paragraphs. Accomplishment of the inspection required by paragraph (i) of this AD terminates the requirements of this paragraph.

(ii) If check valves having P/N CAR401 are not installed on all three hydraulic systems, no further action is required by this paragraph until any check valve having P/N CAR400 is replaced with a check valve having P/N CAR401. If any check valve having P/N CAR400 is replaced by a check valve having P/N CAR401, before further flight, do the inspection specified in paragraph (g)(1) of this AD to determine if all three hydraulic systems are equipped with check valves having P/N CAR401. Accomplishment of the inspection required by paragraph (h) of this AD terminates the requirements of this paragraph.

(2) For airplanes on which Airbus Modification 54491 was embodied in production, or Airbus Service Bulletin A330-29-3101 or Airbus Service Bulletin A340-29-4078 was embodied in service, do the actions specified in paragraphs (g)(2)(i), (g)(2)(ii), and (g)(2)(iii) of this AD.

(i) Except as required by paragraph (g)(1)(i) of this AD, at the applicable times specified in paragraphs (g)(2)(i)(A) and (g)(2)(i)(B) of this AD, as applicable: Do the inspection program (detailed inspection of the lock wire for presence and integrity, a detailed inspection for traces of seepage or black deposits, and an inspection for proper torque) on yellow and blue high pressure manifolds, install new lock wires, and do all applicable corrective actions, in accordance with the instructions of paragraph 4.1.1 of Airbus AOT A330-29A3111, Revision 1, dated October 8, 2009 (for Model A330-200 and -300 series airplanes); or AOT A340-29A4086, Revision 1, dated October 8, 2009 (for Model A340-200 and -300 series airplanes). Do all applicable corrective actions before further flight. Accomplishment of the inspection required by paragraph (h)(1) of this AD terminates the requirements of this paragraph.

(A) For airplanes on which Airbus Modification 54491 has been embodied in production: At the later of the times specified in paragraphs (g)(2)(i)(A)(1) and (g)(2)(i)(A)(2) of this AD.

(1) Before the accumulation of 1,000 total flight cycles since first flight but no earlier than the accumulation of 700 total flight cycles since first flight.

(2) Within 100 flight cycles or 28 days after December 14, 2009 (the effective date of AD 2009-24-09, Amendment 39-16068 (74 FR 62208, November 27, 2009)), whichever occurs first.

(B) For airplanes on which Airbus Service Bulletin A330-29-3101 or A340-29-4078 was embodied in service: At the later of the times specified in paragraphs (g)(2)(i)(B)(1) and (g)(2)(i)(B)(2) of this AD.

(1) Within 1,000 flight cycles since the embodiment of Airbus Service Bulletin A330-29-3101 or A340-29-4078 but no earlier than 700 flight cycles after the embodiment of Airbus Service Bulletin A330-29-3101 or A340-29-4078.

(2) Within 100 flight cycles or 28 days after December 14, 2009 (the effective date of AD 2009-24-09, Amendment 39-16068 (74 FR 62208, November 27, 2009)), whichever occurs first.

(ii) Within 900 flight hours after accomplishment of paragraph (g)(2)(i) of this AD, do the inspection program (detailed inspection of the lock wire for presence and integrity, a detailed inspection for traces of seepage or black deposits, and an inspection for proper torque) and install a new lock wire on the green high pressure manifold; and do an inspection (detailed inspection for traces of seepage or black deposits, and detailed inspection to determine alignment of the check valve and manifold) on the yellow and blue high pressure manifolds, and do all applicable corrective actions; in accordance with the instructions of paragraph 4.1.2 of Airbus AOT A330-29A3111, Revision 1, dated October 8, 2009 (for Model A330-200 and -300 series airplanes); or AOT A340-29A4086, Revision 1, dated October 8, 2009 (for Model A340-200 and -300 series airplanes). Do all applicable corrective actions before further flight. Accomplishment of the inspection program required by paragraph (i) of this AD terminates the requirements of this paragraph.

(iii) Within 900 flight hours after accomplishment of paragraph (g)(2)(ii) of this AD, and thereafter at intervals not to exceed 900 flight hours, do the inspection program (detailed inspection for traces of seepage or black deposits, and detailed inspection to determine alignment of the check valve and manifold) on the green, yellow, and blue high pressure manifolds, and do all applicable corrective actions, in accordance with the instructions of paragraph 4.1.3 of Airbus AOT A330-29A3111, Revision 1, dated October 8, 2009 (for Model A330-200 and -300 series airplanes); or AOT A340-29A4086, Revision 1, dated October 8, 2009 (for Model A340-200 and -300 series airplanes). Do all applicable corrective actions before further flight. Accomplishment of the inspection program required by paragraph (i) of this AD terminates the requirements of this paragraph.

(h) New Inspection and Actions

For airplanes equipped with check valves having P/N CAR400; and for airplanes equipped with check valves having P/N CAR401, except for airplanes on which Airbus Modification 201384 has been embodied during production, or on which Airbus Service Bulletin A330-29-3119 (for Model A330-200, -200F, and -300 series airplanes) or Airbus Service Bulletin A340-29-4091 (for Model A340-200 and -300 series airplanes) has been embodied in service: Within 900 flight hours after the effective date of this AD, inspect the check valves on the blue, green, and yellow hydraulic systems to identify their part numbers, in accordance with the Accomplishment Instructions of Airbus Mandatory Service Bulletin A330-29-3111, Revision 02, dated June 23, 2011 (for Model A330-200, -200F and -300 series airplanes); or Airbus Mandatory Service Bulletin A340-29-4086, Revision 02, dated June 23, 2011 (for Model A340-200 and -300 series airplanes). Accomplishment of the actions required by this paragraph terminates the requirements specified in paragraphs (g)(1) and (g)(1)(ii) of this AD.

(1) If check valves having P/N CAR401 are installed on all three hydraulic systems: Before further flight, do the inspection program (detailed inspection for red mark presence and alignment integrity of the check valve and manifold, a detailed inspection for traces of seepage or black deposits, and an inspection for proper torque) on yellow and blue high pressure manifolds, and do all applicable corrective actions, in accordance with the Accomplishment Instructions of Airbus Mandatory Service Bulletin A330-29-3111, Revision 02, dated June 23, 2011 (for Model A330-200, -200F, and -300 series airplanes); or Airbus Mandatory Service Bulletin A340-29-4086, Revision 02, dated June 23, 2011 (for Model A340-200 and -300 series airplanes). Accomplishment of the actions required by this paragraph terminates the requirements specified in paragraph (g)(2)(i) of this AD.

(2) If check valves having P/N CAR401 are not installed on all three hydraulic systems, no further action is required by this paragraph until any check valve having P/N CAR400 is replaced with a check valve having P/N CAR401. If any check valve having P/N CAR400 is replaced by a check valve having P/N CAR401: Before further flight after such replacement, do the actions specified in paragraph (h) of this AD, to determine if all three hydraulic systems are equipped with check valves having P/N CAR401. If check valves having P/N CAR401 are installed on all three hydraulic systems: Before further flight, do the actions specified in paragraphs (h)(1) and (i) of this AD.

(i) New Repetitive Inspection Program and Corrective Actions

Within 900 flight hours after accomplishment of paragraph (h)(1) of this AD, do the inspection program (detailed inspection for red mark presence and alignment integrity of the check valve and manifold, a detailed inspection for traces of seepage or black deposits, and an inspection for proper torque) on the green, yellow, and blue system check valves, and do all applicable corrective actions, in accordance with the Accomplishment Instructions of Airbus Mandatory Service Bulletin A330-29-3111, Revision 02, dated June 23, 2011 (for Model A330-200, -200F, and -300 series airplanes); or Airbus Mandatory Service Bulletin A340-29-4086, Revision 02, dated June 23, 2011 (for Model A340-200 and -300 series airplanes). Repeat the inspection program thereafter at intervals not to exceed 900 flight hours. Do all applicable corrective actions before further flight. Accomplishment of the actions required by this paragraph terminates the requirements specified in paragraphs (g)(1)(i), (g)(2)(ii), and (g)(2)(iii) of this AD.

(j) New Repetitive Inspection for Certain Airplanes

For airplanes equipped with check valves having P/N CAR401 and on which Airbus Modification 201384 has been embodied during production, or on which Airbus Service Bulletin A330-29-3119 (for Model A330-200, -200F, and -300 series airplanes); or Airbus Service Bulletin A340-29-4091 (for Model A340-200 and -300 series airplanes) has been embodied in service: Within 1,000 flight hours after the effective date of this AD, do a general visual inspection of the green, yellow, and blue high pressure manifolds and check valves having P/N CAR401 for any sign of rotation of the check valve head, and for any signs of hydraulic fluid leakage or seepage (including black deposits), in accordance with the instructions of Airbus Alert Operators Transmission A29L001-12, dated October 11, 2012. Repeat the inspection thereafter at interval not to exceed 900 flight hours.

(k) New Corrective Action for Certain Airplanes

If, during any inspection required by paragraph (j) of this AD, any sign of rotation of the check valve head is found, or any sign of hydraulic fluid leakage or seepage (including black deposits) is found: Before further flight, do all applicable corrective actions, in accordance with the instructions of Airbus Alert Operators Transmission A29L001-12, dated October 11, 2012.

(l) No Terminating Action

Accomplishment of the corrective actions required by this AD does not constitute terminating action for the repetitive inspections required by this AD.

(m) Replacement Check Valve Torque Value

As of the effective date of this AD, at each replacement of a check valve with a check valve having P/N CAR401, apply a torque of 141 to 143 newton metre (N.m) (103.98 to 105.45 pounds-foot (lbf.ft)) during installation.

(n) Credit for Previous Actions

(1) This paragraph restates the credit specified in paragraph (g)(2)(iv) of AD 2009-24-09, Amendment 39-16068 (74 FR 62208, November 27, 2009). This paragraph provides credit for actions required by paragraph (g)(2)(i) of this AD, if those actions were performed before December 14, 2009 (the effective date of AD 2009-24-09), using the applicable service information specified in paragraphs (n)(1)(i) and (n)(1)(ii) of this AD.

(i) Airbus AOT A330-29A3111, dated September 2, 2009 (for Model A330-200 and -300 series airplanes), which is not incorporated by reference in this AD.

(ii) Airbus AOT A340-29A4086, dated September 2, 2009 (for Model A340-200 and -300 series airplanes), which is not incorporated by reference in this AD.

(2) This paragraph provides credit for actions required by paragraph (h) of this AD, if those actions were performed before the effective date of this AD using the applicable service information specified in paragraphs (n)(2)(i) through (n)(2)(iv) of this AD.

(i) Airbus AOT A330-29A3111, dated September 2, 2009 (for Model A330-200 and -300 series airplanes), which is not incorporated by reference in this AD.

(ii) Airbus AOT A330-29A3111, Revision 1, dated October 8, 2009 (for Model A330-200 and -300 series airplanes).

(iii) Airbus AOT A340-29A4086, dated September 2, 2009, (for Model A340-200 and -300 series airplanes), which is not incorporated by reference in this AD.

(iv) Airbus AOT A340-29A4086, Revision 1, dated October 8, 2009 (for Model A340-200 and -300 series airplanes).

(o) No Reporting

Although the service information specified in paragraphs (o)(1) through (o)(5) of this AD specifies to submit certain information to the manufacturer, this AD does not include that requirement.

(1) Airbus Alert Operators Transmission A29L001-12, dated October 11, 2012.

(2) Airbus Mandatory Service Bulletin A330-29-3111, Revision 02, dated June 23, 2011.

(3) Airbus Mandatory Service Bulletin A340-29-4086, Revision 02, dated June 23, 2011.

(4) Airbus AOT A330-29A3111, Revision 1, dated October 8, 2009.

(5) Airbus AOT A340-29A4086, Revision 1, dated October 8, 2009.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved for AD 2009-24-09, Amendment 39-16068 (74 FR 62208, November 27, 2009), are approved as AMOCs for the corresponding provisions of this AD, except AMOC ANM-116-11-172 is not approved as an AMOC for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(q) Related Information

(1) Refer to Mandatory Continuing Airworthiness Information European Aviation Safety Agency Airworthiness Directive 2012-0244R1, dated January 25, 2013, for related information. You may examine the MCAI in the AD docket on the Internet at http://www.regulations.gov/#!documentDetail;D=FAA-2013-0365-0003.

(2) Service information identified in this AD that is not incorporated by reference may be obtained at the addresses specified in paragraphs (r)(5) and (r)(6) of this AD.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 31, 2014.

(i) Airbus Alert Operators Transmission A29L001-12, dated October 11, 2012.

(ii) Airbus Mandatory Service Bulletin A330-29-3111, Revision 02, dated June 23, 2011.

(iii) Airbus Mandatory Service Bulletin A340-29-4086, Revision 02, dated June 23, 2011.

(4) The following service information was approved for IBR on December 14, 2009 (74 FR 62208, November 27, 2009).

(i) Airbus Alert Operators Telex A330-29A3111, Revision 1, dated October 8, 2009. Only the first page of this document contains the document number, revision level, and date; no other pages of this document contain this information.

(ii) Airbus Alert Operators Telex A340-29A4086, Revision 1, dated October 8, 2009. Only the first page of this document contains the document number, revision level, and date; no other pages of this document contain this information.

(5) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 26, 2013.
Jeffrey E. Duven,
Manager, Transport Airplane Directorate, Aircraft Certification Service.

[FR Doc. 2013-29998 Filed 12-26-13; 8:45 am]

BILLING CODE 4910-13-P